DEPARTMENT OF ENERGY

Federal Energy Regulatory Commission

[Docket No. CP01-71-000]

Texas Eastern Transmission Corporation; Notice of Application

January 26, 2001.

Take notice that on January 23, 2001, Texas Eastern Transmission Corporation (Texas Eastern), 5400 Westheimer Court, Houston, Texas 77056-5310, in Docket No. CP01-71-000 an application pursuant to Sections 7(c) and 7(b) of the Natural Gas Act for permission and approval for Texas Eastern to construct, own, operate, and maintain certain replacement compressor facilities and to abandon the compressor facilities being replaced due to the age and condition of the facilities, located in Westmoreland County, Pennsylvania, all as more fully set forth in the application which is on file with the Commission and open to public inspection. This filing may be viewed on the web at ­http://www.ferc.fed.us/online/rims.htm (call 202-208-2222 for assistance).

Texas Eastern proposes to replace an existing 10,500 horsepower (HP) Pratt and Whitney aeroderivative gas turbine compressor unit at the Delmont Compressor Station, currently consisting of 12 compressor units, totaling 43,600 HP, located in Westmoreland County, Pennsylvania, with a 13,300 HP Solar Mars 100S gas turbine compressor unit, and to abandon by removal of the existing compressor unit. Texas Eastern states that the proposed facilities will result in minor modifications to existing aboveground gas piping. Therefore, in addition, Texas Eastern proposes to construct auxiliary equipment, including: (a) An outdoor lube oil cooler, (b) a turbine exhaust silencer, (c) a turbine air intake filter system including an in-duct dissipative-type silencer, and (d) a new control building and controls.

Texas Eastern states that it constructed the existing unit in 1962, under the authority granted by the Commission's predecessor, the Federal Power Commission, in Docket No. CP61-203 (28 FPC 1035). Texas Eastern indicates that replacement of the existing unit is necessary to continue reliability of service to customers in accordance with their firm contract rights, provide additional flexibility to support non-firm contract rights, and to reduce the downtime of the existing gas turbine. Texas Eastern states that due to its age and deterioration, the existing unit needs to be replaced to ensure continued reliability of firm service. Texas Eastern asserts that replacement parts for the unit are no longer readily available, making repairs and maintenance difficult. Texas Eastern indicates that the replacement proposed is necessary to ensure the continued safe and reliable operation of their system and to maintain service to firm customers at existing contracted levels.

Texas Eastern states that it selected the new 13,300 HP unit rather than a 10,950 HP unit because the larger turbine will result in lower fuel consumption per HP and lower installed costs per HP than the smaller turbine. Texas Eastern asserts that the incremental increase in cost associated with using the larger turbine rather than the smaller turbine is approximately 5 percent of the total project cost. Texas Eastern indicates that due to the higher HP associated with the new unit, they will experience a slight increase in capacity on its mainline. Texas Eastern states that the slight increase in capacity is an ancillary benefit related to the decision to obtain the benefits of a larger compressor for its customers and not an effort to expand its mainline system. Texas Eastern asserts that the increase does not affect or change the firm rights existing customers have on its system, but will provide additional flexibility to the system that may support interruptible services.

Texas Eastern states that the total estimated cost for the proposed replacement 13,300 HP turbine compressor unit and related facilities (including associated construction and installation costs) and abandonment by removal of the existing facilities is approximately $13,978,000. Texas Eastern states that the proposed age and condition replacement and the benefits it provides to existing customers in overall reliability, flexibility, and efficiency to the system, qualifies for rolled-in rate treatment under the Commission's Statement of Policy, 88 FERC Paragraph 61,227 (1999) and consistent with other cases approved by the Commission. Therefore, Texas Eastern requests all project costs should be permitted roll-in treatment in Texas Eastern's next rate case.

Any questions regarding the application should be directed to Steven E. Tillman, Director, Regulatory Affairs, at (713) 627-5044, (713) 627-5947 (FAX), Texas Eastern Transmission Corporation, P.O. Box 1642, Houston, Texas 77251-1642.

Any person desiring to be heard or to make any protest with reference to said Application should on or before February 16, 2001, file with the Federal Energy Regulatory Commission, 888 First Street, N.E., Washington, D.C. 20426, a motion to intervene or a protest in accordance wit the requirements of the Commission's Rules of Practice and Procedure (18 CFR 85.211 or 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments and protests may be filed electronically via the internet in lieu of paper. See, 18 CFR 385.2001(a)(1)(iii) and the instructions on the Commission's web site at http://www.ferc.fed.us/efi/doorbell.htm.

Take further notice that pursuant to the authority contained in and subject to the jurisdiction conferred upon the Commission by Sections 7 and 15 of the Natural Gas Act and the Commission's Rules of Practice and Procedure, a hearing will be held without further notice before the Commission or its designee on this Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for Applicant to appear or be represented at the hearing.

David P. Boergers,
Secretary.

[FR Doc. 01-2718 Filed 1-31-01; 8:45 am]

BILLING CODE 6717-01-M